DEPARTMENT OF AGRICULTURE

Food Safety and Inspection Service

[FDMS Docket No. FSIS-2009-0005]

International Standard-Setting Activities

AGENCY: Food Safety and Inspection Service, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2008, to May 31, 2009, and June 1, 2009, to May 31, 2010, seeks comments on standards under consideration and recommendations for new standards.

ADDRESSES: Comments may be submitted by either of the following methods:

• Federal eRulemaking Portal: This Web site provides the ability to type short comments directly into the comment field on this Web page or attach a file for lengthier comments. Go to http://www.regulations.gov. Follow the online instructions at that site for submitting comments.

• Mail, including floppy disks or CD-ROMs, and hand- or courier-delivered items: Send to Docket Clerk, U.S. Department of Agriculture, Food Safety and Inspection Service, 1400 Independence Avenue, SW., Room 2534, South Agriculture Building, Washington, DC 20250-3700.

Instructions: All items submitted by mail or electronic mail must include the Agency name and docket number FSIS-2009-0005. Comments received in response to this docket will be made available for public inspection and posted without change, including any personal information, to http://www.regulations.gov.

Docket: For access to comments received, go to the FSIS Docket Room at the address listed above between 8:30 a.m. and 4:30 p.m., Monday through Friday.

Please state that your comments refer to Codex and, if your comments relate to specific Codex committees, please identify those committees in your comments and submit a copy of your comments to the delegate from that particular committee.

FOR FURTHER INFORMATION CONTACT: Karen Stuck, United States Manager for Codex, U.S. Department of Agriculture, Office of the Under Secretary for Food Safety, Room 4861, South Agriculture Building, 1400 Independence Avenue, SW., Washington, DC 20250-3700; Phone: (202) 205-7760; Fax: (202) 720-3157.

USCodex@fsis.usda.gov. For information pertaining to particular committees, the delegate of that committee may be contacted. (A complete list of U.S. delegates and alternate delegates can be found in Attachment 2 to this notice.) Documents pertaining to Codex are accessible via the World Wide Web at the following address: http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of SPS standard-setting activities of each international standard-setting organization. The Secretary of Agriculture has delegated to the Administrator, Food Safety and Inspection Service (FSIS), the responsibility to inform the public of the SPS standard-setting activities of Codex. The FSIS Administrator has, in turn, assigned the responsibility for informing the public of the SPS standard-setting activities of Codex to the U.S. Codex Office, FSIS.

Codex was created in 1962 by two U.N. organizations, the Food and Agriculture Organization (FAO) and the World Health Organization (WHO). Codex is the principal international organization for encouraging fair international trade in food and protecting the health and economic interests of consumers. Through adoption of food standards, codes of practice, and other guidelines developed by its committees and by promoting their adoption and implementation by governments, Codex seeks to protect the health of consumers, ensure fair trade practices in the food trade, and promote coordination of food standards work undertaken by international governmental and non-governmental organizations. In the United States, the United States Department of Agriculture (USDA); the Food and Drug Administration (FDA), Department of Health and Human Services (HHS); and the Environmental Protection Agency (EPA) manage and carry out U.S. Codex activities.

As the agency responsible for informing the public of the SPS standard-setting activities of Codex, FSIS publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To obtain copies of those standards listed in Attachment 1 that are under consideration by Codex, please contact the Codex Delegate or the U.S. Codex Office. This notice also solicits public comment on those standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. Please visit the Web page or notify the appropriate U.S. delegate or the Office of U.S. Codex Alimentarius, Room 4861, South Agriculture Building, 1400 Independence Avenue, SW., Washington, DC 20250-3700, if you would like to access or receive information about specific committees.

The information provided in Attachment 1 describes the status of Codex standard-setting activities by the Codex Committees for the time periods from June 1, 2008, to May 31, 2009, and June 1, 2009, to May 31, 2010. Attachment 2 provides the list of U.S. Codex Officials (includes U.S. delegates and alternate delegates). A list of forthcoming Codex sessions Codex sessions may be found at: http://www.codexalimentarius.net/web/current.jsp?lang=en.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of th is Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on May 27, 2009.
Karen Stuck,
United States Manager for Codex.

Attachment 1: Sanitary and Phytosanitary Activities of Codex

Codex Alimentarius Commission and Executive Committee

The Codex Alimentarius Commission will hold its Thirty-Second Session June 29-July 4, 2009, in Rome, Italy. At that time, it will consider standards, codes of practice, and related matters brought to its attention by the general subject committees, commodity committees, ad hoc Task Forces, and member delegations. It will also consider options to implement recommendations from the review of Codex committee structure and mandates of Codex committees and task forces, the management of the Trust Fund for the Participation of Developing Countries and Countries in Transition in the Work of the Codex Alimentarius, as well as budgetary and strategic planning issues. At this Session, the Commission will elect a Chairperson and three Vice Chairpersons.

Prior to the Commission meeting, the Executive Committee will have met at its Sixty-second Session on June 23-26, 2009. It is composed of the chairperson, vice-chairpersons, and seven members elected from the Commission, one from each of the following geographic regions: Africa, Asia, Europe, Latin America and the Caribbean, Near East, North America, and South-West Pacific. Additionally, regional coordinators from the six regional committees serve as members of the Executive Committee. It will consider the Codex Strategic Plan 2008-2013; review the Codex committee structure and mandate of Codex committees and task forces; review matters arising from reports of Codex Committees, proposals for new work, and standards management issues; and review the Trust Fund.

Responsible Agency: USDA/FSIS.

U.S. Participation: Yes.

Codex Committee on Residues of Veterinary Drugs in Foods

The Codex Committee on Residues of Veterinary Drugs in Foods determines priorities for the consideration of residues of veterinary drugs in foods and recommends Maximum Residue Limits (MRLs) for veterinary drugs. The Committee also develops codes of practice as may be required and considers methods of sampling and analysis for the determination of veterinary drug residues in food. A veterinary drug is defined as any substance applied or administered to a food producing animal, such as meat or milk producing animals, poultry, fish or bees, whether used for therapeutic, prophylactic or diagnostic purposes, or for modification of physiological functions or behavior.

A Codex Maximum Limit for Residues of Veterinary Drugs (MRLVD) is the maximum concentration of residue resulting from the use of a veterinary drug (expressed in mg/kg or ug/kg on a fresh weight basis) that is recommended by the Codex Alimentarius Commission to be permitted or recognized as acceptable in or on a food. An MRLVD is based on the type and amount of residue considered to be without any toxicological hazard for human health as expressed by the Acceptable Daily Intake (ADI) or on the basis of a temporary ADI that utilizes an additional safety factor. The MRLVD also takes into account other relative public health risks as well as food technological aspects.

When establishing an MRLVD, consideration is also given to residues that occur in food of plant origin or the environment. Furthermore, the MRLVD may be reduced to be consistent with good practices in the use of veterinary drugs and to the extent that practical analytical methods are available.

An Acceptable Daily Intake (ADI) is an estimate by the Joint FAO/WHO Expert Committee on Food Additives (JECFA) of the amount of a veterinary drug, expressed on a body weight basis, that can be ingested daily over a lifetime without appreciable health risk (standard man = 60 kg).

The 18th Session of the Codex Committee on Residues of Veterinary Drugs in Foods met in Natal, Brazil, on May 11-15, 2009. The reference document is ALINORM 9/32/31. The following items will be considered by the Commission at its 32nd Session in July 2009.

To be considered at Step 8:

• Draft MRL for Melengestrol Acetate in cattle.

• Guidelines for the Design and Implementation of National Regulatory Food Safety Assurance Programs Associated with the Use of Veterinary Drugs in Food Producing Animals.

• Draft MRLs for Ractopamine in pigs and cattle.

To be considered at Step 5/8:

• Draft MRLs for Avilamycin in pigs, chicken, turkey, and rabbits.

• Draft MRLs for Dexamethasone in cattle, pigs, and horses.

• Draft MRLs for Monensin in cattle, sheep, goats, chicken, turkey, and quail.

• Draft MRLs for Narasin in chicken.

• Draft MRLs for Triclabendazole in cattle and sheep.

• Draft MRLs for Tylosin in cattle, pigs, and chicken.

At the 18th CCRVDF, the Committee completed a Priority List of Veterinary Drugs Requiring Evaluation or Re-evaluation by JECFA. These drugs are Monepantel (establishment of ADI and recommended MRLs in sheep), Monensin (re-evaluation of MRL in cattle), Derquantel (establishment of ADI and recommended MRLs in sheep), and Ractopamine (review of depletion data in pig tissues).

The Committee will continue work on the following:

• Draft MRLs for Narasin in cattle and pigs.

• Draft MRLs for Tilmicosin in chicken and turkey.

• A project document on risk management recommendations for veterinary drugs for which no ADI or MRL has been recommended by JECFA. The United States will lead an electronic Working Group to define the scope for the work.

Responsible Agencies: HHS/FDA/CVM; USDA/FSIS.

U.S. Participation: Yes.

Codex Committee on Contaminants in Foods

The Codex Committee on Contaminants in Foods (CCCF) establishes or endorses permitted maximum levels, and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Third Session in Rotterdam, the Netherlands, from March 23-27, 2009. The relevant document is ALINORM 09/32/41. The following items are to be considered by the 32nd Session of the Commission in July 2009.

To be considered for adoption at step 8:

• Draft Code of Practice for the Reduction of Acrylamide in Foods.

• Draft Code of Practice for the Reduction of Contamination of Food with Polycyclic Aromatic Hydrocarbons (PAH) from Smoking and Direct Drying Processes.

• Proposed Draft Revision to the Preamble of the GSCTF.

• Proposed Draft Code of Practice for the Prevention and Reduction of Ochratoxin A Contamination in Coffee.

The Committee is continuing to work on:

• Amendments to Paragraph 10, Sample Preparation in the Sampling Plans for Aflatoxin Contamination in Ready-to-Eat Treenuts and Treenuts Destined for Further Processing: Almonds, Hazelnuts and Pistachos.

• Proposed Draft Maximum Levels for Total Aflatoxins in Brazil Nuts.

• Proposed Draft Maximum Levels for Fumonisins in Maize and Maize-Products and Associated Sampling Plans (new work).

• Proposed Draft Code of Practice for the Reduction of Ethyl Carbamate in Stone Fruit Distillates (new work).

• Proposed Draft Revision of the Code of Practice for the Prevention and Reduction of Aflatoxin in Tree Nuts (additional measures for Brazil Nuts).

• Proposed Draft Maximum Levels for Melamine in Food and Feed (new work).

• Priority List of Contaminants and Naturally Occurring Toxicants Proposed for Evaluation by JECFA.

• Discussion Paper on Mycotoxins in Sorghum.

Responsible Agencies: HHS/FDA; USDA/FSIS.

U.S. Participation: Yes.

Codex Committee on Food Additives

The Codex Committee on Food Additives was re-established by the 29th Session of the Commission, which split the former Codex Committee on Additives and Contaminants into two committees. The Committee is to establish or endorse acceptable maximum levels for individual food additives, prepare a priority list of food additives for risk assessment by the Joint FAO/WHO Expert Committee on Food Additives, assign functional classes to individual food additives, recommend specifications of identity and purity for food additives for adoption by the Commission, consider methods of analysis for the determination of additives in food, and consider and elaborate standards or codes for related subjects such as the labeling of food additives when sold as such. The Committee met in Shanghai, China, on March 16-20, 2009. The relevant document is ALINORM 9/32/12. The following items will be considered by the 32nd Session of the Commission in July 2009.

To be considered for adoption:

• Amendment to the Annex to Table 3 of the GFSA.

• Amendments to the names and descriptors of the Food Category System of the GSFA.

• Priority List of Food Additives Proposed for Evaluation by JECFA.

To be considered at Step 5/8:

• Draft and proposed draft Food Additive Provisions of the General Standard for Food Additives (GSFA).

• Proposed draft amendments to the International Numbering System (INS) for Food Additives.

• Specifications for the Identity and Purity of Food Additives arising from the 69th JECFA meeting.

The Committee will continue to work on (step 1/2/3):

• Proposed draft Guidelines and Principles for the Use of Substances Used as Processing Aids (N04-2008).

• Amendments to the INS List.

• Specifications for the Identity and Purity of Food Additives arising from the 71st JECFA meeting.

• Food Additive provisions to be considered by the physical Working Group on the GSFA.

• Discussion Paper on identification of problems and recommendations related to the inconsistent presentation of food additive provisions in Codex commodity standards.

• Discussion Paper on the updating of the Standard for Food Grade Salt (CODEX STAN 150-1985).

• Discussion paper on innovative proposals to expedite the work on the GSFA.

• Discussion paper on principles regarding the need for justification for proposals of changes to the INS.

• Inventory of Substances used as Processing Aids (IPA), (updated list).

• Discussion Paper on mechanisms for re-evaluation of substances by JECFA.

• Proposal for the revision of the food category system.

• Working Document for Information and Support to the Discussion on the GSFA.

Discontinued work:

• Draft and proposed draft food additive provisions of the General Standard for Food Additives (GSFA).

Responsible Agency: HHS/FDA.

U.S. Participation: Yes.

Codex Committee on Pesticide Residues

The Codex Committee on Pesticide Residues recommends to the Codex Alimentarius Commission establishment of maximum limits for pesticide residues for specific food items or in groups of food. A Codex Maximum Residue Limit for Pesticide (MRLP) is the maximum concentration of a pesticide residue (expressed as mg/kg) recommended by the Codex Alimentarius Commission to be legally permitted in or on food commodities and animal feeds. Foods derived from commodities that comply with the respective MRLPs are intended to be toxicologically acceptable. That is, consideration of the various dietary residue intake estimates and determinations, both at the national and international level, in comparison with the Acceptable Daily Intake (ADI), should indicate that foods complying with Codex MRLPs are safe for human consumption. Codex MRLPs are primarily intended to apply in international trade and are derived from reviews conducted by the Joint Meeting on Pesticide Residues (JMPR).

The 41st Session of the Committee met in Beijing, China, on April 20-25, 2009. The relevant document is ALINORM 09/32/24. The following items will be considered by the Commission at its 32nd Session in July 2009.

To be considered at Step 8:

• Draft and Revised Draft Maximum Residue Limits for Carbaryl (on 1 commodity), Triadimefon (on 4 commodities), Flusilazole (4 commodities), and Triadimefon (4).

To be considered at Step 5/8:

• Proposed Draft and Revised Draft Maximum Residue Limits for Dimethoate (3 commodities), Diphenylamine (2), Ethoxyquin (1), Malathion (2), Methomyl (6), Cypermethrin (37), Profenofos (10), Buprofezin (8), Tebuconazole (9), Chloropropham (2), Imidacloprid (20), Azoxystrobin (52), Chloroantraniliprole (19), Mandipropamid (15), Prothioconazole (16), Spinetoram (21), and Spirotetramate (21) (see ALINORM 09/32/24, appendices II & III for lists of the commodities).

Responsible Agencies: EPA; USDA/AMS.

U.S. Participation: Yes.

Codex Committee on Methods of Analysis and Sampling

The Codex Committee on Methods of Analysis and Sampling defines the criteria appropriate to Codex Methods of Analysis and Sampling; serves as a coordinating body for Codex with other international groups working in methods of analysis and sampling and quality assurance systems for laboratories; specifies, on the basis of final recommendations submitted to it by the other bodies referred to above, Reference Methods of Analysis and Sampling appropriate to Codex Standards which are generally applicable to a number of foods; considers, amends if necessary, and endorses as appropriate methods of analysis and sampling proposed by Codex (Commodity) Committees, except that methods of analysis and sampling for residues of pesticides or veterinary drugs in food, the assessment of microbiological quality and safety in food, and the assessment of specifications for food additives do not fall within the terms of reference of this Committee; elaborates sampling plans and procedures, as may be required; considers specific sampling and analysis problems submitted to it by the Commission or any of its Committees; and defines procedures, protocols, guidelines or related texts for the assessment of food laboratory proficiency, as well as quality assurance systems for laboratories.

The 30th Session of the Committee met in Balatonalmadi, Hungary, on March 9-13, 2009. The relevant document is ALINORM 09/32/23. The following items will be considered for adoption by the 32nd Session of the Commission in July 2009:

• Draft Guidelines for Settling Disputes on Analytical (Test) Results (at step 8).

• Draft Guidelines on Analytical Terminology (at step 8).

• Consequential Amendment to the General Criteria for the Selection of Methods of Analysis (terminology).

• Endorsed or updated status of several methods of analysis in Codex standards.

• Amendment to the Working Instructions for the Implementation of the Criteria Approach in Codex in the Procedural Manual.

The Committee will continue to work on:

• Endorsement of Methods of Analysis in Codex Standards.

• Proposed Draft Guidelines on Criteria for Methods for the Detection and Identification of Foods Derived from Biotechnology (returned to step 2/3).

• Proposed Draft Revision of the Guidelines on Measurement Uncertainty (returned to step 2/3).

• Guidance on Uncertainty from Sampling.

• Methods of Analysis for Natural Mineral Waters.

Responsible Agencies: HHS/FDA; USDA/GIPSA.

U.S. Participation: Yes.

Codex Committee on Food Import and Export Inspection and Certification Systems

The Codex Committee on Food Import and Export Inspection and Certification Systems is charged with developing principles and guidelines for food import and export inspection and certification systems, with a view to harmonizing methods and procedures that protect the health of consumers, ensure fair trading practices, and facilitate international trade in foodstuffs. Additionally, the Committee develops principles and guidelines for the application of measures by the competent authorities of exporting and importing countries to provide assurances, where necessary, that foodstuffs comply with requirements, especially statutory health requirements; develops guidelines for the utilization, as and when appropriate, of quality assurance systems to ensure that foodstuffs conform with requirements and promotes the recognition of these systems in facilitating trade in food products under bilateral/multilateral arrangements by countries; develops guidelines and criteria with respect to format, declarations, and language of such official certificates as countries may require with a view towards international harmonization; makes recommendations for information exchange in relation to food import/export control; consults as necessary with other international groups working on matters related to food inspection and certification systems; and considers other matters assigned to it by the Commission in relation to food inspection and certification systems.

The 17th Session of the Committee met in Cebu, Philippines, on November 24-28, 2008. The reference document is ALINORM 09/32/30. The following will be considered by the Commission at its 32nd Session in July 2009.

To be considered at step 5/8:

• Proposed Draft Generic Model Official Certificate (Annex to Guidelines for Design, Production, Issuance and Use of Generic Official Certificate).

The committee is continuing work on:

• Proposed Draft Principles and Guidelines for the Conduct of Foreign On-site Audits and Inspections.

• Proposed Draft Principles and Guidelines for National Food Control Systems.

Responsible Agencies: HHS/FDA; USDA/FSIS.

U.S. Participation: Yes.

Codex Committee on General Principles

The Codex Committee on General Principles deals with procedures and general matters as are referred to it by the Codex Alimentarius Commission. Such matters have included the establishment of the General Principles, which define the purpose and scope of the Codex Alimentarius, the nature of Codex standards, and the development of a mechanism for examining any economic impact statements submitted by governments concerning possible implications for their economies of some of the individual standards or some of the provisions thereof, and the establishment of a Code of Ethics for International Trade in Food.

The Committee held its 25th Session in Paris, France, on March 30-April 3, 2009. The reference document is ALINORM 09/32/33. The following will be considered by the Commission at its 32nd Session in July 2009:

• Proposed amendment to the Guidelines to Chairpersons of Codex Committees and Ad Hoc Intergovernmental Task Forces.

• Proposed Amendment to the Terms of Reference of the Committee on General Principles.

• Proposed inclusion of an information footnote to the fourth paragraph of the Statements of Principle Concerning the Role of Science in the Codex Decision-Making Process and the Extent to Which Other Factors are Taken into Account indicating that the acceptance procedure had been abolished in 2005.

To be considered at step 5/8:

• Proposed Draft Code of Ethics for International Trade in Food Including Concessional and Food Aid Transactions.

Responsible Agency: USDA/FSIS, HHS/FDA.

U.S. Participation: Yes.

Codex Committee on Food Labelling

The Codex Committee on Food Labelling drafts provisions on labelling applicable to all foods; considers, amends, and endorses draft specific provisions on labelling prepared by the Codex Committees drafting standards, codes of practice and guidelines; and studies specific labeling problems assigned by the Codex Alimentarius Commission. The Committee also studies problems associated with the advertisement of food with particular reference to claims and misleading descriptions.

The Committee held its 37th Session in Calgary, Canada, on May 4-8, 2009. The reference document is ALINORM 09/32/22. The following items are to be considered by the 32nd Session of the Commission in July 2009.

To be considered at Step 5/8:

• Proposed Draft Amendment to the Guidelines for the Production, Processing, Labelling and Marketing of Organically Produced Food (CAC/GL 32-1999), Annex 2, Table 2, modifying the use provisions for Rotenone.

• Editorial Amendments to Several Standards, specifically: (a) Section 4.3.1 of the General Standard for the Labelling of and Claims for Prepackaged Foods for Special Dietary Uses (Codex Standard 146-1985); (b) Section 3.4 (a) of the General Guidelines on Claims (CAC/GL 1-1979); (c) Purpose, Section 2.3, Section 3.2.6.2, Section 3.2.7, Footnote 4, Footnote 5, and Section 5 of the Guidelines on Nutritional Labelling (CAC/GL 2-1985); and (d) Section 8 of the Guidelines for the Production, Processing, Labelling and Marketing of Organically Produced Food (CAC/GL 32-1999).

The Committee will continue to work on:

• Proposed Draft Revision of the Guidelines on Nutrition Labelling (CAC/GL 2-1985) concerning the list of nutrients that are always declared on a voluntary or mandatory basis (at Step 3 of the Procedure).

• Proposed Draft Recommended Principles and Criteria for the Legibility of Nutritional Labelling (at Step 3 of the Procedure).

• Proposed Draft recommendations for the labelling of foods obtained through certain techniques of genetic modification/genetic engineering (at Step 3 of the Procedure).

• Draft Amendment to the General Standard for the Labelling of Prepackaged Foods (Codex Standard 1-1985): Definitions for “Food and food ingredients obtained through certain techniques of genetic modification/genetic engineering,” “Organism,” “Genetically modified/engineered organism,” and “Modern biotechnology” (at Step 7 of the Procedure).

• Draft Amendment to the Guidelines for the Production, Processing, Labelling and Marketing of Organically Produced Food (CAC/GL 32-1999), Section 5.1 relating to other uses of ethylene.

Responsible Agencies: HHS/FDA; USDA/FSIS.

U.S. Participation: Yes.

Codex Committee on Food Hygiene

The Codex Committee on Food Hygiene drafts basic provisions on food hygiene application to all food; considers, amends if necessary and endorses provision on hygiene prepared by Codex commodity committees and contained in Codex commodity standards; considers, amends if necessary, and endorses provisions on hygiene prepared by Codex commodity committees and contained in Codex codes of practice unless, in specific cases, the Commission has decided otherwise; drafts provisions on hygiene applicable to specific food items or food groups, whether coming within the terms of reference of a Codex commodity committee or not; considers specific hygiene problems assigned to it by the Commission; suggests and prioritizes areas where there is a need for microbiological risk assessment at the international level and develops questions to be addressed by the risk assessors; and considers microbiological risk management matters in relation to food hygiene, including food irradiation, and in relation to the risk assessment of FAO and WHO.

The 40th Session of the Committee met in Guatemala City, Guatemala, on December 1-5, 2008. The relevant document is ALNORM 09/32/13. The following items related to the activities of the Codex Committee on Food Hygiene will be considered by the Commission at its 32nd Session in July 2009.

To be considered for adoption at Step 5/8:

• Proposed Draft Microbiological Criteria for Listeria Monocytogenes in Ready-to-Eat Foods.

• Microbiological Criteria for Powdered Follow-up Formulae and Formulae for Special Medical Purposes for Young Children (Annex II to the Code of Hygiene Practice for Powdered Formulae for Infants and Young Children.

The committee is continuing work on:

• Proposed Draft Guideline for the Control of Campylobacter and Salmonella spp. in Chicken Meat.

• Proposed Draft Annex on Leafy Green Vegetables Including Leafy Herbs to the Code of Hygiene Practice for Fresh Fruit and Vegetables.

• Proposed Draft Code of Hygienic Practice for Vibrio spp. in Seafood.

• Annex on Control Measures for Vibrio parahaemolyticus and Vibrio vulnificus in Molluscan Shelfish to the Proposed Draft Code of Hygienic Practice for Vibrio spp. in Seafood.

• Risk Analysis Policy of the CCFH.

• Possible Revision of the Recommended International Code of Hygienic Practice for Collecting, Processing and Marketing of Natural Mineral Waters.

• Possible Elaboration of the Code of Hygienic Practice for Cocoa and Chocolate Production and Processing.

New Work:

• Proposed Draft Code of Hygienic Practice for Control of Viruses in Food.

Responsible Agencies: HHS/FDA; USDA/FSIS.

U.S. Participation: Yes.

Codex Committee on Fresh Fruits and Vegetables

The Codex Committee on Fresh Fruits and Vegetables is responsible for elaborating world-wide standards and codes of practice for fresh fruits and vegetables. The Committee has not met since the conclusion of the 31st Session of the Commission. Therefore, it has no recommended draft standards being considered for adoption at the 32nd Session of the Commission in June 2009. The next session of the Committee will be in October 2009 in Mexico City.

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines or related texts for foods for special dietary uses, in cooperation with other committees where necessary; considers, amends if necessary, and endorses provisions on nutritional aspects proposed for inclusion in Codex standards, guidelines and related texts.

The Committee held its 30th Session in Cape Town, South Africa, on November 3-7, 2008. The relevant document is ALINORM 09/32/26. The following items will be considered by the Commission at its 32nd Session in July 2009.

To be considered at Step 8:

• Guidelines for Use of Nutrition and Health Claims: Table of Conditions for Nutrient Contents (Part b: Provisions on Dietary Fibre).

• Advisory Lists of Nutrient Compounds for Use in Foods for Special Dietary Uses Intended for Infants and Young Children: Section D Advisory List of Food Additives for Special Nutrient Forms: Provisions on Gum Arabic (Gum acacia).

• Draft Nutritional Risk Analysis Principles and Guidelines for Application to the Work of the Committee on Nutrition and Foods for Special Dietary Uses.

• Proposed Draft Recommendations on the Scientific Substantiation of Health Claims.

The Committee will continue work on:

• Methods of Analysis for Dietary Fibre.

• Proposed Draft Additional or Revised Nutrient Reference Values (NRVs) for Vitamins and Minerals.

• Proposal for New Work to Amend the Codex General Principles for the Addition of Essential Nutrients to Foods.

• Proposal for New Work to Establish a Standard for Processed Cereal-based Foods for Underweight Infants and Young Children.

• Proposal to Revise the Codex Guidelines on Formulated Supplementary Foods for Older Infants and Young Children.

• Nutrient Reference Values (NRVs) for Nutrients Associated with Risk of Non-Communicable Disease.

Responsible Agencies: HHS/FDA; USDA/ARS.

U.S. Participation: Yes.

Codex Committee on Fish and Fishery Products

The Fish and Fishery Products Committee is responsible for elaborating standards for fresh, frozen and otherwise processed fish, crustaceans, and mollusks. The Committee has not met since the conclusion of the 31st Session of the Commission. Therefore, it has no recommended draft standards being considered for adoption at the 32nd Session of the Commission in June 2009. The next session of the Committee will be in September 2009 in Agadir, Morocco.

Responsible Agencies: HHS/FDA; USDC/NOAA/NMFS.

U.S. Participation: Yes.

Codex Committee on Milk and Milk Products

The Codex Committee on Milk and Milk Products is responsible for establishing international codes and standards for milk and milk products. The Committee has not met since the 31st Session of the Commission. Therefore, it has no recommended draft standards being considered for adoption at the 32nd Session of the Commission. The Committee will hold its next session in 2010 in New Zealand. The Committee will continue work on:

• Proposed Draft Amendment to the Codex Standard for Fermented Milks pertaining to Fermented Milk Drinks at Step 6.

• Proposed Draft Standard for Processed Cheese—discussion on working group outcome and discontinuation of current processed cheese standards.

• Maximum Levels for Annatto Extracts in Codex individual cheese standards.

• Methods of Analysis and Sampling for Milk and Milk Products Standards, including AOAC standards.

Responsible Agencies: USDA/AMS; HHS/FDA.

U.S. Participation: Yes.

Codex Committee on Fats and Oils

The Codex Committee on Fats and Oils is responsible for elaborating standards for fats and oils of animal, vegetable, and marine origin. The Committee held its 21st Session in Kota Kinabalu, Malaysia, on February 16-20, 2009. The Committee is working on:

• Proposed Draft List of Acceptable Previous Cargoes.

• Proposed Draft Criteria (Code of Practice for the Storage and Transport of Fats and Oils in Bulk).

• Proposed Draft Amendments to the Standard for Named Vegetable Oils: total carotenoids in unbleached palm oil.

• Proposed Draft Amendment to the Standard for Olive Oils and Olive Pomace Oils: linolenic acid.

• Proposed Draft Amendments to the Standard for Named Vegetable Oils: inclusion of palm kernel olein and palm kernel stearin.

Responsible Agencies: HHS/FDA; USDA/ARS.

U.S. Participation: Yes.

Codex Committee on Processed Fruits and Vegetables

The Codex Committee on Processed Fruits and Vegetables is responsible for elaborating worldwide standards for all types of processed fruits and vegetables including dried products, canned dried peas and beans, and jams and jellies, but not dried prunes, and fruit and vegetable juices. The Commission has also allocated to this Committee the work of revising standards for quick frozen fruits and vegetables.

The Committee held its 24th Session in Washington, DC, on September 15-20, 2008. The reference document is ALINORM 09/32/27. The following will be considered by the Commission at its 32nd Session in July 2009.

To be considered at step 8:

• Draft Codex for Jams, Jellies and Marmalades.

• Proposed Draft Codex Standard for Certain Canned Vegetables (General Provisions).

To be considered at step 5/8:

• Proposed Draft Provisions for Packing Media for Certain Canned Vegetables: Section 3.1.3 (Draft Codex Standard for Certain Canned Vegetables).

• Proposed Draft Annexes specific to Certain Canned Vegetables (Draft Codex Standard for Certain Canned Vegetables).

The Committee is continuing work on:

• Proposed Draft Sampling Plans including Metrological Provisions for Controlling Minimum Drained Weight of Canned Fruits and Vegetables in Packing Media.

• Methods of Analysis for Processed Fruits and Vegetables—Aqueous Coconut Products: Coconut Cream and Coconut Milk.

• Food Additive Provisions for Processed Fruits and Vegetables.

• Proposals for Amendments to the Priority List for Standardization of Processed Fruits and Vegetables.

Responsible Agencies: USDA/AMS; HHS/FDA.

U.S. Participation: Yes.

Codex Committee on Natural Mineral Waters

The Codex Committee on Natural Mineral Waters is responsible for elaborating standards for all types of natural mineral water products. The Committee was reactivated by the 30th Session of the Codex Alimentarius Commission to address discrepancies of the health-related limits of certain substances between the Codex Standard for Natural Mineral Waters (CODEX STAN 108-1981) and the current version of the WHO Guidelines for Drinking Water Quality. The Committee should complete the task in no more than two sessions and should propose a revised Section 3.2, “Health-related limits for certain substances,” of the Codex Standard for Natural Mineral Waters for final adoption by the Commission at its Session in 2009.

The 8th Session of the Committee for Natural Mineral Waters was held February 11-15, 2008, in Lugano, Switzerland. The Committee noted that it had completed the work assigned to it by the 30th Session of the Commission, therefore, no further sessions are planned.

Responsible Agencies: HHS/FDA.

U.S. Participation: Yes.

Certain Codex Commodity Committees

Several Codex Alimentarius Commodity Committees have adjourned sine die. The following Committees fall into this category:

Cocoa Products and Chocolate

Responsible Agency: HHS/FDA.

U.S. Participation: Yes.

Meat Hygiene

Responsible Agency: USDA/FSIS.

U.S. Participation: Yes.

Sugars

Responsible Agencies: USDA/ARS; HHS/FDA.

U.S. Participation: Yes.

Vegetable Proteins

Responsible Agencies: USDA/ARS; HHS/FDA.

U.S. Participation: Yes.

Cereals, Pulses and Legumes

Responsible Agencies: HHS/FDA; USDA/GIPSA.

U.S. Participation: Yes.

Ad hoc Intergovernmental Task Force on Antimicrobial Resistance

The ad hoc Intergovernmental Task Force on Antimicrobial Resistance was created by the 29th Session of the Commission.

The Task Force, hosted by the Republic of Korea, has a time frame of four sessions, which started with its first meeting in October 2007. Its objective is to develop science-based guidance to be used to assess the risks to human health associated with the presence in food and feed, including aquaculture, and the transmission through food and feed of antimicrobial resistant microorganisms and antimicrobial resistance genes and to develop appropriate risk management advice based on that assessment to reduce such risk. In this process, work undertaken in this field at national, regional, and international levels should be taken into account.

The Second Session of the Committee met in Seoul, Republic of Korea, on October 20-24, 2008. The relevant document is Alinorm 09/32/42.

The Committee is continuing work on:

• Proposed Draft Guidelines for Risk Analysis of Foodborne Antimicrobial Resistance (N01-2008, N02-2008, N03/2008).

Responsible Agencies: HHS/FDA; USDA/FSIS.

U.S. Participation: Yes.

Ad Hoc Intergovernmental Task Force on Foods Derived from Biotechnology

The ad hoc Intergovernmental Task Force on Foods Derived from Biotechnology completed its work and was dissolved in July 2008 by the 31st Session of the Commission.

Ad Hoc Intergovernmental Task Force on the Processing and Handling of Quick Frozen Foods

The ad hoc Intergovernmental Task Force on the Processing and Handling of Quick Frozen Foods completed its work and was dissolved in July 2008 by the 31st Session of the Commission.

FAO/WHO Regional Coordinating Committees

The FAO/WHO Regional Coordinating Committees define the problems and needs of each of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission's work of particular significance to each region; promote coordination of all regional food standards work undertaken by international governmental and non-governmental organizations within each region; exercise a general coordinating role for each of the regions and such other functions as may be entrusted to them by the Commission; and promote the use of Codex standards and related texts by members.

Coordinating Committee for Africa

The Committee (CCAfrica) held its 18th session in Accra, Ghana, from February 24-27, 2009. The relevant document is ALINORM 09/32/18. The Committee did not refer any draft standards for action at the 32nd Session of the Codex Alimentarius Commission, June 29 to July 4, 2009.

Responsible Agencies: USDA/FSIS.

U.S. Participation: Yes (as observer).

Coordinating Committee for Asia

The Committee (CCAsia) held its 16th session in Denpasar, Indonesia, from November 17-21, 2008. The relevant document is ALINORM 09/32/15. The Committee referred the following items for action at the 32nd Session of the Codex Alimentarius Commission, June 29 to July 4, 2009.

To be considered at step 8:

• Draft Regional Standard for Gochujang.

• Draft Regional Standard for Ginseng Products.

• Proposed Draft Regional Standard for Fermented Soybean Paste.

• Proposed Draft Regional Standard for Edible Sago Flour.

The Committee is continuing to work on:

• Proposed Draft Standard for Non-fermented Soybean Products.

• Proposed Draft Regional Standard for Chili Sauce.

• Status of Implementation of the Strategic Plan for the Coordinating Committee for Asia 2009-2014.

• Discussion Paper on tempe and tempe products.

Responsible Agencies: USDA/FSIS.

U.S. Participation: Yes (as observer).

Coordinating Committee for Europe

The Committee (CCEurope) held its 26th session in Warsaw, Poland, from October 7-10, 2008. The relevant document is ALINORM 09/32/19. The Committee did not refer any draft standards for action at the 32nd Session of the Codex Alimentarius Commission, June 29 to July 4, 2009.

Responsible Agencies: USDA/FSIS.

U.S. Participation: No.

Coordinating Committee for Latin America and the Caribbean

The Committee (CCLAC) held its 16th session in Acapulco, Mexico, from November 10-14, 2008. The relevant document is ALINORM 09/32/36. The Committee did not refer any draft standards for action at the 32nd Session of the Codex Alimentarius Commission, June 29 to July 4, 2009.

The Committee is continuing to work on:

• Draft proposed regional standards for:

• Culantro.

• Lucuma.

• Project Document on the Standardization of Quinoa.

Responsible Agencies: USDA/FSIS.

U.S. Participation: Yes (as observer).

Coordinating Committee for the Near East

The Committee (CCNEA) held its 5th session in Tunis, Tunisia, from January 26-29, 2009. The relevant document is ALINORM 09/32/40. The Committee did not refer any draft standards for action at the 32nd Session of the Codex Alimentarius Commission, June 29 to July 4, 2009. The Committee is continuing to work on:

• Proposed Draft Regional Code of Practice for Street-Vended Foods.

• Project Document for a Regional Standard for Pomegranate.

• Project Document for a Regional Standard for Harissa (hot pepper paste).

• Project Document for a Regional Standard for Halwa Tehenia.

• Discussion Paper on the Difficulties Faced in the Region when Implementing Codex Standards.

• Project Document for a Regional Standard for Camel Milk.

• Project Documents for Regional Standards for Date Paste and Date Molasses.

• Discussion Paper on the Classification of Foods Based on Risks.

Responsible Agencies: USDA/FSIS.

U.S. Participation: Yes (as observer).

Coordinating Committee for North America and the South West Pacific

The Committee held its 10th session in Nuku'alofa, Tonga, from October 28-31, 2008. The relevant document is ALINORM 09/32/32. The Committee will not refer any draft standards for action at the 32nd Session of the Codex Alimentarius Commission, June 29 to July 4, 2009. The Committee continues to work on:

• Implementation of the Codex Strategic Plan and Adoption of the Regional Strategic Plan.

• Discussion Paper on Kava.

Responsible Agencies: HHS/FDA; USDA/FSIS.

U.S. Participation: Yes.

Attachment 2

U.S. Codex Alimentarius Officials; Codex Chairpersons

Codex Committee on Food Hygiene

Emilio Esteban, DVM, MBA, MPVM, PhD, Scientific Advisor for Laboratory Services and Research, Office of Public Health Science, Food Safety and Inspection Service, U.S. Department of Agriculture, 950 College Station Road, Athens, GA 30605.

Phone: (706) 546-3429.

Fax: (706) 546-3428.

E-mail: emilio.esteban@fsis.usda.gov.

Codex Committee on Processed Fruits and Vegetables

Mr. Terry Bane, Branch Chief, Processed Products Branch, Fruit and Vegetable Programs, Agriculture Marketing Service, Room 0709, South Agriculture Building, Stop 9247, 1400 Independence Avenue, SW., Washington, DC 20250-0247.

Phone: (202) 720-4693.

Fax: (202) 690-1087.

E-mail: terry.bane@usda.gov.

Codex Committee on Residues of Veterinary Drugs in Foods

Dr. Bernadette Dunham, Director, Center for Veterinary Medicine, U.S. Department of Health and Human Services, Food and Drug Administration, 7519 Standish Place (MPN4), Rockville, MD 20855.

Phone: (240) 276-9000.

Fax: (240) 276-9001.

E-mail: Bernadette.dunham@fda.hhs.gov.

Codex Committee on Cereals, Pulses and Legumes (Adjourned Sine Die)

VACANT.

Listing of U.S. Delegates and Alternates

Worldwide General Subject Codex Committees

Codex Committee on Residues of Veterinary Drugs in Foods (Host Government—United States)

U.S. Delegate

Steven D. Vaughn, D.V.M., Director, Office of New Animal Drug Evaluation, Center for Veterinary Medicine, FDA, 7500 Standish Place, Rockville, MD 20855.

Phone: (301) 827-1796.

Fax: (301) 594-2297.

E-mail: SVaughn@cvm.fda.gov.

Alternate Delegate

Dr. Charles Pixley, Director, Laboratory Quality Assurance Division, Office of Public Health Science, Food Safety and Inspection Service, 950 College Station Road, Athens, GA 30605.

Phone: (706) 546-3559.

Fax: (706) 546-3452.

E-mail: charles.pixley@fsis.usda.gov.

Codex Committee on Food Additives (Host Government—China)

U.S. Delegate

Dennis M. Keefe, PhD, Office of Premarket Approval, Center for Food Safety and Applied Nutrition, Food and Drug Administration (HFS-200), Harvey W. Wiley Federal Building, 5100 Paint Branch Parkway, College Park, MD 20740-3835.

Phone: (202) 418-3113.

Fax: (202) 418-3131.

E-mail: dennis.keefe@fda.hhs.gov.

Alternate Delegate

Susan E. Carberry, PhD, Supervisory Chemist, Division of Petition Review, Office of Food Additive Safety (HFS-265), Center for Food Safety and Applied Nutrition, Food and Drug Administration, 5100 Paint Branch Parkway, College Park, MD 20740.

Phone: (301) 436-1269.

Fax: (301) 436-2972.

E-mail: Susan.Carberry@fda.hhs.gov.

Codex Committee on Contaminants in Foods (Host Government—the Netherlands)

U.S. Delegate

Nega Beru, PhD, Director, Office of Plant and Dairy Foods (HFS-300), Center for Food Safety and Applied Nutrition, Food and Drug Administration, 5100 Paint Branch Parkway, College Park, MD 20740.

Phone: (301) 436-1700.

Fax: (301) 436-2651.

E-mail: Nega.Beru@fda.hhs.gov.

Alternate Delegate

Kerry Dearfield, PhD, Scientific Advisor for Risk Assessment, Office of Public Health Science, Food Safety and Inspection Service, U.S. Department of Agriculture, 1400 Independence Avenue, SW., Room 380, Aerospace Center, Washington, DC 20250.

Phone: (202) 690-6451.

Fax: (202) 690-6337.

E-mail: Kerry.Dearfield@fsis.usda.gov.

Codex Committee on Pesticide Residues (Host Government—China)

U.S. Delegate

Lois Rossi, Director of Registration Division, Office of Pesticide Programs, U.S. Environmental Protection Agency, Ariel Rios Building, 1200 Pennsylvania Avenue, NW., Washington, DC 20460.

Phone: (703) 305-5447.

Fax: (703) 305-6920.

E-mail: rossi.lois@epa.gov.

Alternate Delegate

Robert Epstein, PhD, Associate Deputy Administrator, Science and Technology, Agricultural Marketing Service, U.S. Department of Agriculture, P.O. Box 96456, Room 3522S, Mail Stop 0222, 1400 Independence Avenue, SW., Washington, DC 20090.

Phone: (202) 720-5231.

Fax: (202) 720-6496.

E-mail: robert.epstein@usda.gov.

Codex Committee on Methods of Analysis and Sampling (Host Government—Hungary)

U.S. Delegate

Gregory Diachenko, PhD, Director, Division of Product Manufacture and Use, Office of Premarket Approval, Center for Food Safety and Applied Nutrition (CFSAN), Food and Drug Administration (HFS-300), Harvey W. Wiley Federal Building, 5100 Paint Branch Parkway, College Park, MD 20740-3835.

Phone: (301) 436-2387.

Fax: (301) 436-2364.

E-mail: gregory.diachenko@fda.hhs.gov.

Alternate Delegate

Donald C. Kendall, Technical Services Division, Grain, Inspection, Packers & Stockyards Administration, U.S. Department of Agriculture, 10383 N. Ambassador Drive, Kansas City, MO 64153-1394.

Phone: (816) 891-0463.

Fax: (816) 891-0478.

E-mail: Donnald.C.Kendall@usda.gov.

Codex Committee on Food Import and Export Inspection and Certification Systems (Host Government—Australia)

U.S. Delegate

Mary Stanley, International Policy Issues Advisor, Office of Policy and Program Development, Food Safety and Inspection Service, U.S. Department of Agriculture, Room 4544, South Agriculture Building, 1400 Independence Avenue, SW., Washington, DC 20250.

Phone: (202) 720-0287.

Fax: (202) 720-4929.

E-mail: Mary.Stanley@fsis.usda.gov.

Alternate Delegate

H. Michael Wehr, Senior Advisor and Codex Program Coordinator, International Affairs Staff, Center for Food Safety and Applied Nutrition, 5100 Paint Branch Parkway (HFF-550), College Park, MD 20740.

Phone: (301) 436-1724.

Fax: (301) 436-2618.

E-mail: Michael.wehr@fda.hhs.gov.

Codex Committee on General Principles (Host Government—France)

U.S. Delegate

Note: A member of the Steering Committee heads the delegation to meetings of the General Principles Committee.

Codex Committee on Food Labeling (Host Government—Canada)

U.S. Delegate

Barbara O. Schneeman, PhD, Director, Office of Nutritional Products, Labeling and Dietary Supplements, Center for Food Safety and Applied Nutrition, Food and Drug Administration, 5100 Paint Branch Parkway (HFS-800), College Park, MD 20740.

Phone: (301) 436-2373.

Fax: (301) 436-2636.

E-mail: barbara.schneeman@fda.hhs.gov.

Alternate Delegate

Heejeong Latimer, Risk Analyst, Risk Assessment Division, Food Safety and Inspection Service, USDA, 1400 Independence Avenue, SW., Room 333, Aerospace Center, Washington, DC 20250.

Phone: (202) 690-0823.

Fax: (202) 205-3625.

E-mail: Heejeong.Latimer@fsis.usda.gov.

Codex Committee on Food Hygiene (Host Government—United States)

U.S. Delegate

Donald Zink, Senior Science Advisor, Center for Food Safety and Applied Nutrition, Food and Drug Administration (HFS-302), Harvey W. Wiley Federal Building, 5100 Paint Branch Parkway, College Park, MD 20740-3835.

Phone: (301) 436-1692.

Fax: (301) 436-2632.

E-mail: Donald.Zink@fda.hhs.gov.

Alternate Delegates

Kerry Dearfield, PhD, Scientific Advisor for Risk Assessment, Office of Public Health Science, Food Safety and Inspection Service, U.S. Department of Agriculture, 1400 Independence Avenue, SW., Room 380, Aerospace Center, Washington, DC 20250.

Phone: (202) 690-6451.

Fax: (202) 690-6337.

E-mail: Kerry.Dearfield@fsis.usda.gov.

Rebecca Buckner, PhD, Consumer Safety Officer, Center for Food Safety and Applied Nutrition, Food and Drug Administration, Room 3B-0033, Harvey Wiley Building, 5100 Paint Branch Parkway, College Park, MD 20740.

Phone: (301) 436-1486.

Fax: (301) 436-2632.

E-mail: rebecca.buckner@fda.hhs.gov.

Codex Committee on Nutrition and Food for Special Dietary Uses (Host Government—Germany)

U.S. Delegate

Barbara O. Schneeman, PhD, Director, Office of Nutritional Products, Labeling and Dietary Supplements, Center for Food Safety and Applied Nutrition, Food and Drug Administration, 5100 Paint Branch Highway (HFS-800), College Park, MD 20740.

Phone: (301) 436-2373.

Fax: (301) 436-2636.

E-mail: barbara.schneeman@fda.hhs.gov.

Alternate Delegate

Allison Yates, PhD, Director, Beltsville Human Nutrition Research Center, Agricultural Research Service, U.S. Department of Agriculture, 10300 Baltimore Avenue, Bldg 307C, Room 117, Beltsville, MD 20705.

Phone: (301) 504-8157.

Fax: (301) 504-9381.

E-mail: Allison.Yates@ars.usda.gov.

Worldwide Commodity Codex Committees

Codex Committee on Fresh Fruits and Vegetables (Host Government—Mexico)

U.S. Delegate

Dorian LaFond, International Standards Coordinator, Fruit and Vegetables Program, Agricultural Marketing Service, USDA, Room 2086, South Building, 1400 Independence Avenue, SW., Washington, DC 20250.

Phone: (202) 690-4944.

Fax: (202) 720-4722.

E-mail: dorian.lafond@usda.gov.

Alternate Delegate

Michelle Smith, PhD, Interdisciplinary Scientist, Office of Plant and Dairy Foods, Center for Food Safety and Applied Nutrition, Food and Drug Administration (HFS-306), Harvey W. Wiley Federal Building, 5100 Paint Branch Parkway, College Park, MD 20740-3835.

Phone: (301) 436-2024.

Fax: (301) 436-2651.

E-mail: Michelle.Smith@fda.hhs.gov.

Codex Committee on Fish and Fishery Products (Host Government—Norway)

U.S. Delegate

Donald Kraemer, Acting Director, Office of Seafood, Center for Food Safety and Applied Nutrition, Food and Drug Administration, Harvey W. Wiley Federal Building, 5100 Paint Branch Parkway, College Park, MD 20740-3835.

Phone: (301) 436-2300.

Fax: (301) 436-2599.

E-mail: donald.kraemer@fda.hhs.gov.

Alternate Delegate

Timothy Hansen, Director, Seafood Inspection Program, National Oceanic and Atmospheric Administration, Department of Commerce, Room 10837, 1315 East West Highway, Silver Spring, MD 20910.

Phone: (301) 713-2355.

Fax: (301) 713-1081.

E-mail: Timothy.Hansen@noaa.gov.

Codex Committee on Cereals, Pulses and Legumes (Adjourned—Sine Die) (Host Government—United States)

U.S. Delegate

Henry Kim, PhD, Supervisory Chemist, Division of Plant Product Safety, Office of Plant and Dairy Foods, Center for Food Safety and Applied Nutrition, Food and Drug Adminstration, 5100 Paint Branch Parkway, College Park, MD 20740.

Phone: (301) 436-2023.

Fax: (301) 436-2651.

E-mail: henry.kim@fda.hhs.gov.

Codex Committee on Milk and Milk Products (Host Government—New Zealand)

U.S. Delegate

Duane Spomer, Food Defense Advisor, Agricultural Marketing Service, U.S. Department of Agriculture, Room 1114, South Agriculture Building, 1400 Independence Avenue, SW., Washington, DC 20250.

Phone: (202) 720-1861.

Fax: (202) 205-5772.

E-mail: duane.spomer@usda.gov.

Alternate Delegate

John F. Sheehan, Director, Division of Dairy and Egg Safety, Office of Plant and Dairy Foods and Beverages, Center for Food Safety and Applied Nutrition, Food and Drug Administration (HFS-306), Harvey W. Wiley Federal Building, 5100 Paint Branch Parkway, College Park, MD 20740.

Phone: (301) 436-1488.

Fax: (301) 436-2632.

E-mail: john.sheehan@fda.hhs.gov.

Codex Committee on Fats and Oils (Host Government—United Kingdom)

U.S. Delegate

Dennis M. Keefe, PhD, Office of Food Additive Safety, Center for Food Safety and Applied Nutrition, Food and Drug Administration (HFS-200), Harvey W. Wiley Federal Building, 5100 Paint Branch Parkway, College Park, MD 20740-3835.

Phone: (301) 436-1284.

Fax: (301) 436-2972.

E-mail: dennis.keefe@fda.hhs.gov.Ph.D.

Alternate Delegate

Kathleen Warner, Agricultural Research Service, U.S. Department of Agriculture, 1815 N. University Street, Peoria, IL 61604.

Phone: (309) 681-6584.

Fax: (309) 681-6668.

E-mail: warnerk@ncaur.usda.gov.

Codex Committee on Cocoa Products and Chocolate (Host Government—Switzerland)

U.S. Delegate

Michelle Smith, PhD, Food Technologist, Office of Plant and Dairy Foods and Beverages, Center for Food Safety and Applied Nutrition, Food and Drug Administration (HFS-306), Harvey W. Wiley Federal Building, 5100 Paint Branch Parkway, College Park, MD 20740-3835.

Phone: (301) 436-2024.

Fax: (301) 436-2651.

E-mail: michelle.smith@fda.hhs.gov.

Codex Committee on Sugars (Host Government—United Kingdom)

U.S. Delegate

Martin Stutsman, J.D., Office of Plant and Dairy Foods and Beverages, Center for Food Safety and Applied Nutrition, Food and Drug Administration (HFS-306), Harvey W. Wiley Federal Building, 5100 Paint Branch Parkway, College Park, MD 20740-3835.

Phone: (301) 436-1642.

Fax: (301) 436-2651.

E-mail: martin.stutsman@fda.hhs.gov.

Codex Committee on Processed Fruits and Vegetables (Host Government—United States)

U.S. Delegate

Dorian LaFond, International Standards Coordinator, Fruit and Vegetable Division, Agricultural Marketing Service, USDA, Room 2086, South Agriculture Building, 1400 Independence Avenue, SW., Washington, DC 20250.

Phone: (202) 690-4944.

Fax: (202) 720-0016.

E-mail: dorian.lafond@usda.gov.

Alternate Delegate

Paul South, PhD, Division of Plant Product Safety, Office of Plant and Dairy Foods, Center for Food Safety and Applied Nutrition, Food and Drug Administration, 5100 Paint Branch Parkway, College Park, MD 20740.

Phone: (301) 436-1640.

Fax: (301) 436-2561.

E-mail: paul.south@fda.hhs.gov.

Codex Committee on Vegetable Proteins (Adjourned—Sine Die) (Host Government—Canada)

U.S. Delegate

Dr. Wilda H. Martinez, Area Director, ARS North Atlantic Area, Agricultural Research Service, U.S. Department of Agriculture, 600 E. Mermaid Lane, Wyndmoor, PA 19038.

Phone: (215) 233-6593.

Fax: (215) 233-6719.

E-mail: wmartinez@ars.usda.gov.

Codex Committee on Meat Hygiene (Adjourned—Sine Die) (Host Government—New Zealand)

U.S. Delegate

Perfecto Santiago, D.V.M., Deputy Assistant, Office of Data Integration and Food Protection, Room 3130, South Agriculture Building, Food Safety and Inspection Service, U.S. Department of Agriculture, 1400 Independence Avenue, SW., Washington, DC 20250.

Phone: (202) 205-0452.

Fax: (202) 690-5634.

E-mail: perfecto.santiago@fsis.usda.gov.

Codex Committee on Natural Mineral Waters (Host Government—Switzerland)

U.S. Delegate

Lauren Robin, PhD, Review Chemist, Office of Plant and Dairy Foods, Center for Food Safety and Applied Nutrition, Food and Drug Administration, Harvey W. Wiley Federal Building, 5100 Paint Branch Parkway, College Park, MD 20740-3835.

Phone: (301) 436-1639.

Fax: (301) 436-2651.

E-mail: Lauren.Robin@fda.hhs.gov.

Ad Hoc Intergovernmental Task Forces

Ad Hoc Intergovernmental Task Force on Antimicrobial Resistance (Host Government—Republic of Korea)

U.S. Delegate

David G. White, D.V.M., Director, National Antimicrobial Resistance, Monitoring System (NARMS), U.S. Food and Drug Administration, Center for Veterinary Medicine, Office of Research, 8401 Muirkirk Road, Laurel, MD 20708.

Phone: (301) 210-4181.

Fax: (301) 210-4685.

E-mail: David.White@fda.hhs.gov.

Alternate Delegate

Neena Anandaraman, D.V.M., Veterinary Medical Officer, Zoonotic Diseases & Residue Surveillance Division, Office of Public Health Science, Food Safety and Inspection Service, U.S. Department of Agriculture, Room 343, Aerospace Center, Washington, DC 20250.

Phone: (202) 690-6429.

Fax: (202) 690-6565.

E-mail: neena.anandaraman@fsis.usda.gov.

Ad Hoc Intergovernmental Task Force on Foods Derived from Modern Biotechnology (Host Government—Japan) (Adjourned—Sine Die)

Ad Hoc Intergovernmental Task Force on Quick Frozen Foods (Host Government—Thailand) (Adjourned—Sine Die)

There are six regional coordinating committees:

Coordinating Committee for Africa.

Coordinating Committee for Asia.

Coordinating Committee for Europe.

Coordinating Committee for Latin America and the Caribbean.

Coordinating Committee for the Near East.

Coordinating Committee for North American and the South-West Pacific.

Contact

Karen Stuck, United States Manager for Codex, U.S. Department of Agriculture, Office of the Under Secretary for Food Safety, Room 4861, South Agriculture Building, 1400 Independence Avenue, SW., Washington, DC 20250-3700.

Phone: (202) 205-7760.

Fax: (202) 720-3157.

E-mail: karen.stuck@osec.usda.gov.

[FR Doc. E9-12647 Filed 5-29-09; 8:45 am]

BILLING CODE 3410-DM-P